DEPARTMENT OF LABOR

Veterans' Employment and Training Service

Agency Information Collection Activities; Comment Request: Federal Contractor Veterans' Employment Report VETS-4212

ACTION: Request for comments.

SUMMARY: The Veterans' Employment and Training Service (VETS) is announcing an opportunity for public comment on a collection of information by the agency. Under the Paperwork Reduction Act (PRA) of 1995, Federal agencies are required to publish notice in the Federal Register concerning each proposed collection of information and to allow 60 days for public comment in response to the notice. In this notice, VETS is soliciting comments concerning the proposed information collection request for the VETS Federal Contractor Veterans' Employment Report VETS-4212.

DATES: Comments must be submitted by January 29, 2024.

ADDRESSES: Follow the instructions for submitting comments.

• Email: 4212-FRN-2023-VETS@dol.gov. Include “VETS-4212 Form” in the subject line of the message.

• Fax: (202) 693-4755. Please send comments by fax only if they are 10 pages or less.

• Mail: William E. Coughlin, Investigative Analyst, Compliance and Investigations, VETS, U.S. Department of Labor, Room S-1325, 200 Constitution Avenue NW, Washington, DC 20210.

• Receipt of submissions, whether by U.S. Mail, email, or FAX transmittal, will not be acknowledged; however, the sender may request confirmation that a submission has been received, by telephoning VETS at (202) 693-4700 (VOICE) (this is not a toll-free number) or (202) 693-4760 (TTY/TDD).

All comments received, including any personal information provided, will be available for public inspection during normal business hours at the above address. People needing assistance to review comments will be provided with appropriate aids such as readers or print magnifiers.

FOR FURTHER INFORMATION CONTACT: William E. Coughlin, Investigative Analyst, Compliance and Investigations, VETS, U.S. Department of Labor, who may be reached at (202) 693-4715 or by email at: 4212-FRN-2023-VETS@dol.gov.

SUPPLEMENTARY INFORMATION:

I. Background

The Vietnam Era Veterans' Readjustment Assistance Act of 1974 (“VEVRAA”), 38 U.S.C. 4212(d), requires Federal contractors and subcontractors subject to the Act's affirmative action provisions in 38 U.S.C. 4212(a) to track and report annually to the Secretary of Labor the number of employees in their workforces, by job category and hiring location, who belong to the specified categories of protected veterans. VETS maintains regulations to implement the reporting requirements under VEVRAA, and uses the VETS-4212 form for providing the required information on the employment of covered veterans.

The regulations in 41 CFR part 61-300 require contractors and subcontractors with a covered Federal contract entered into or modified in the amount of $150,000 or more to use the Federal Contractor Veterans' Employment Report VETS-4212 form for reporting information on their employment of covered veterans under VEVRAA.

The VETS-4212 Report is currently approved under OMB No. 1293-0005.

II. Desired Focus of Comments

Currently VETS is soliciting comments concerning a request to extend the currently approved information collection request. The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval of the extension of the currently approved information collection request in order to carry out its responsibilities to administer and enforce compliance with the contractor reporting requirements under VEVRAA, as amended by the JVA. In preparation of that request, the Department seeks public comments on the information collection requirements.

Type of Review: Extension.

Agency: Veterans' Employment and Training Service.

Title: Federal Contractor Veterans' Employment Report VETS-4212.

OMB Number: 1293-0005.

Affected Public: Private Sector—businesses or other for profits and not-for-profit institutions.

Total Respondents: 21,000.

Average responses per Respondent: 18.

Total Annual Responses: 378,000.

Average Time per Response:

• Electronic Submission—20 minutes.

• Paper Submission—40 minutes.

Total Burden Hours: 129,200.

Frequency: Annually.

Total Burden Cost (capital/startup): $0.

Total Burden Cost (operating/maintaining): $735,000.

Comments submitted in response to this notice will be summarized and included in the request for Office of Management and Budget approval of the information collection request; they will also become a matter of public record.

Signed in Washington, DC, this 15th day of November 2023.
James D. Rodriguez,
Assistant Secretary of Labor for Veterans' Employment and Training Service.

[FR Doc. 2023-26088 Filed 11-27-23; 8:45 am]

BILLING CODE 4510-79-P